DEPARTMENT OF THE TREASURY

Internal Revenue Service

Open Meeting of the Taxpayer Advocacy Panel Taxpayer Communications Project Committee

AGENCY: Internal Revenue Service (IRS), Treasury.

ACTION: Notice of meeting.

SUMMARY: An open meeting of the Taxpayer Advocacy Panel's Taxpayer Communications Project Committee will be conducted. The Taxpayer Advocacy Panel is soliciting public comments, ideas, and suggestions on improving customer service at the Internal Revenue Service. This meeting will be held via teleconference.

DATES: The meeting will be held Thursday, November 14, 2024.

FOR FURTHER INFORMATION CONTACT: Jose Cintron-Santiago at 1-888-912-1227 or 787-522-8607.

SUPPLEMENTARY INFORMATION: Notice is hereby given pursuant to section 10(a)(2) of the Federal Advisory Committee Act, 5 U.S.C. app. (1988) that a meeting of the Taxpayer Advocacy Panel Taxpayer Communications Project Committee will be held Thursday, November 14, 2024, at 1:00 p.m. Eastern Time. The public is invited to make oral comments or submit written statements for consideration. Due to limited time and structure of meeting, notification of intent to participate must be made with Jose Cintron-Santiago. For more information, please contact Jose Cintron-Santiago at 1-888-912-1227 or 787-522-8607, or write TAP Office, 48 Carr 165 Suite 2000, Guaynabo, PR 00968-8000 or contact us at the website: http://www.improveirs.org. The agenda will include TAP 2024 committee project focus areas.

Dated: October 1, 2024.
Shawn Collins,
Director, Taxpayer Advocacy Panel.

[FR Doc. 2024-23311 Filed 10-8-24; 8:45 am]

BILLING CODE 4830-01-P